DEPARTMENT OF ENERGY

Federal Energy Regulatory Commission

18 CFR Part 11

[Docket No. RM11-6-000]

Annual Update to Fee Schedule for the Use of Government Lands by Hydropower Licensees

AGENCY: Federal Energy Regulatory Commission.

ACTION: Final rule; annual update to fee schedule.

SUMMARY: In accordance with the Commission's regulations, the Commission, by its designee, the Executive Director, issues this annual update to the fee schedule in the appendix to the part, which lists per-acre rental fees by county (or other geographic area) for use of government lands by hydropower licensees.

DATES: This rule is effective March 12, 2018. Updates appendix A to part 11 with the fee schedule of per-acre rental fees by county (or other geographic area) are applicable from October 1, 2017, through September 30, 2018 (Fiscal Year 2018).

FOR FURTHER INFORMATION CONTACT: Norman Richardson, Financial Management Division, Office of the Executive Director, Federal Energy Regulatory Commission, 888 First Street NE, Washington, DC 20426, (202) 502-6219, Norman.Richardson@ferc.gov.

SUPPLEMENTARY INFORMATION:

Annual Update to Fee Schedule

(Issued March 6, 2018)

Section 11.2 of the Commission's regulations provides a method for computing reasonable annual charges for recompensing the United States for the use, occupancy, and enjoyment of its lands by hydropower licensees.¹ Annual charges for the use of government lands are payable in advance, and are based on an annual schedule of per-acre rental fees published in Appendix A to Part 11 of the Commission's regulations.² This notice updates the fee schedule in Appendix A to Part 11 for fiscal year 2018 (October 1, 2017, through September 30, 2018).

¹ Annual Charges for the Use of Government Lands, Order No. 774, FERC Stats. & Regs. ¶ 31,341 (2013).

² 18 CFR part 11 (2018).

Effective Date

This Final Rule is effective March 12, 2018. The provisions of 5 U.S.C. 804, regarding Congressional review of final rules, do not apply to this Final Rule because the rule concerns agency procedure and practice and will not substantially affect the rights or obligations of non-agency parties. This Final Rule merely updates the fee schedule published in the Code of Federal Regulations to reflect scheduled adjustments, as provided for in section 11.2 of the Commission's regulations.

List of Subjects in 18 CFR Part 11

Public lands.

By the Executive Director.
Anton C. Porter,
Executive Director, Office of the Executive Director.

In consideration of the foregoing, the Commission amends part 11, chapter I, title 18, Code of Federal Regulations, as follows.

PART 11—[AMENDED]

1. The authority citation for part 11 continues to read as follows:

Authority: 16 U.S.C. 792-828c; 42 U.S.C. 7101-7352.

2. Appendix A to part 11 is revised to read as follows:

Appendix A to Part 11—Fee Schedule for FY 2018

State | County | Fee/acre/yr
Alabama | Autauga | $62.99
| Baldwin | 109.71
| Barbour | 62.33
| Bibb | 57.82
| Blount | 100.13
| Bullock | 60.03
| Butler | 66.95
| Calhoun | 83.97
| Chambers | 71.74
| Cherokee | 94.24
| Chilton | 80.84
| Choctaw | 51.62
| Clarke | 56.37
| Clay | 68.19
| Cleburne | 75.67
| Coffee | 72.67
| Colbert | 77.74
| Conecuh | 54.89
| Coosa | 57.13
| Covington | 62.16
| Crenshaw | 55.92
| Cullman | 115.12
| Dale | 69.19
| Dallas | 50.58
| DeKalb | 104.48
| Elmore | 87.52
| Escambia | 62.61
| Etowah | 98.10
| Fayette | 58.54
| Franklin | 57.99
| Geneva | 59.58
| Greene | 55.96
| Hale | 57.65
| Henry | 61.61
| Houston | 71.78
| Jackson | 72.02
| Jefferson | 124.25
| Lamar | 40.73
| Lauderdale | 81.87
| Lawrence | 84.32
| Lee | 104.06
| Limestone | 112.13
| Lowndes | 47.59
| Macon | 67.74
| Madison | 102.41
| Marengo | 49.14
| Marion | 61.23
| Marshall | 104.51
| Mobile | 111.99
| Monroe | 54.24
| Montgomery | 72.33
| Morgan | 102.89
| Perry | 48.38
| Pickens | 56.99
| Pike | 62.78
| Randolph | 77.46
| Russell | 62.33
| Shelby | 115.74
| St. Clair | 105.82
| Sumter | 39.21
| Talladega | 80.18
| Tallapoosa | 66.54
| Tuscaloosa | 81.73
| Walker | 71.05
| Washington | 46.55
| Wilcox | 46.38
| Winston | 71.71
Alaska | Aleutian Islands | 1.04
| Statewide | 37.30
Arizona | Cochise | 22.64
| Coconino | 3.37
| Gila | 5.29
| Graham | 9.33
| Greenlee | 25.22
| La Paz | 20.76
| Maricopa | 91.48
| Mohave | 7.80
| Navajo | 4.18
| Pima | 8.42
| Pinal | 38.43
| Santa Cruz | 24.68
| Yavapai | 25.47
| Yuma | 116.65
Arkansas | Arkansas | 58.19
| Ashley | 63.73
| Baxter | 58.52
| Benton | 97.30
| Boone | 56.44
| Bradley | 76.62
| Calhoun | 53.94
| Carroll | 55.78
| Chicot | 58.47
| Clark | 40.53
| Clay | 70.15
| Cleburne | 60.06
| Cleveland | 85.45
| Columbia | 47.33
| Conway | 56.77
| Craighead | 70.37
| Crawford | 65.85
| Crittenden | 60.94
| Cross | 55.78
| Dallas | 35.10
| Desha | 61.18
| Drew | 55.29
| Faulkner | 71.93
| Franklin | 49.97
| Fulton | 35.13
| Garland | 80.90
| Grant | 49.42
| Greene | 74.98
| Hempstead | 44.92
| Hot Spring | 56.33
| Howard | 51.72
| Independence | 45.94
| Izard | 38.75
| Jackson | 55.20
| Jefferson | 63.62
| Johnson | 52.76
| Lafayette | 44.37
| Lawrence | 58.63
| Lee | 61.35
| Lincoln | 61.32
| Little River | 36.89
| Logan | 49.28
| Lonoke | 61.02
| Madison | 59.62
| Marion | 44.18
| Miller | 43.58
| Mississippi | 62.50
| Monroe | 52.74
| Montgomery | 54.99
| Nevada | 41.63
| Newton | 48.40
| Ouachita | 48.87
| Perry | 53.48
| Phillips | 57.26
| Pike | 46.79
| Poinsett | 67.33
| Polk | 58.17
| Pope | 60.22
| Prairie | 54.88
| Pulaski | 75.42
| Randolph | 44.21
| Saline | 77.20
| Scott | 48.21
| Searcy | 36.58
| Sebastian | 58.41
| Sevier | 51.23
| Sharp | 39.87
| St. Francis | 51.91
| Stone | 42.81
| Union | 55.59
| Van Buren | 54.44
| Washington | 90.20
| White | 56.41
| Woodruff | 54.74
| Yell | 49.83
California | Alameda | 45.67
| Alpine | 35.50
| Amador | 32.56
| Butte | 62.89
| Calaveras | 27.00
| Colusa | 44.95
| Contra Costa | 69.73
| Del Norte | 72.14
| El Dorado | 68.09
| Fresno | 68.58
| Glenn | 38.01
| Humboldt | 21.38
| Imperial | 57.96
| Inyo | 6.45
| Kern | 36.71
| Kings | 49.92
| Lake | 50.39
| Lassen | 15.95
| Los Angeles | 103.11
| Madera | 63.02
| Marin | 51.55
| Mariposa | 17.41
| Mendocino | 33.21
| Merced | 64.04
| Modoc | 14.25
| Mono | 23.32
| Monterey | 40.49
| Napa | 180.44
| Nevada | 89.67
| Orange | 180.87
| Placer | 88.26
| Plumas | 14.70
| Riverside | 84.52
| Sacramento | 59.05
| San Benito | 23.54
| San Bernardino | 111.36
| San Diego | 148.68
| San Francisco | 1,043.76
| San Joaquin | 83.51
| San Luis Obispo | 34.86
| San Mateo | 93.51
| Santa Barbara | 60.96
| Santa Clara | 55.56
| Santa Cruz | 102.55
| Shasta | 23.18
| Sierra | 12.45
| Siskiyou | 16.87
| Solano | 46.00
| Sonoma | 121.00
| Stanislaus | 79.75
| Sutter | 54.78
| Tehama | 24.64
| Trinity | 9.44
| Tulare | 62.36
| Tuolumne | 38.33
| Ventura | 129.29
| Yolo | 46.70
| Yuba | 47.94
Colorado | Adams | 26.21
| Alamosa | 26.59
| Arapahoe | 30.74
| Archuleta | 39.18
| Baca | 10.15
| Bent | 8.48
| Boulder | 104.28
| Broomfield | 35.76
| Chaffee | 55.17
| Cheyenne | 14.19
| Clear Creek | 50.06
| Conejos | 27.69
| Costilla | 20.05
| Crowley | 6.25
| Custer | 27.78
| Delta | 60.55
| Denver | 989.44
| Dolores | 26.32
| Douglas | 91.64
| Eagle | 71.87
| El Paso | 22.03
| Elbert | 20.46
| Fremont | 42.67
| Garfield | 50.68
| Gilpin | 51.68
| Grand | 41.72
| Gunnison | 51.41
| Hinsdale | 96.57
| Huerfano | 15.76
| Jackson | 19.02
| Jefferson | 100.22
| Kiowa | 12.45
| Kit Carson | 20.66
| La Plata | 33.89
| Lake | 53.21
| Larimer | 56.24
| Las Animas | 7.39
| Lincoln | 8.71
| Logan | 15.85
| Mesa | 61.44
| Mineral | 79.23
| Moffat | 13.32
| Montezuma | 20.21
| Montrose | 52.39
| Morgan | 26.02
| Otero | 11.91
| Ouray | 51.82
| Park | 24.29
| Phillips | 33.03
| Pitkin | 102.13
| Prowers | 12.54
| Pueblo | 13.39
| Rio Blanco | 24.24
| Rio Grande | 43.13
| Routt | 40.46
| Saguache | 27.12
| San Juan | 23.36
| San Miguel | 26.59
| Sedgwick | 23.20
| Summit | 60.65
| Teller | 36.61
| Washington | 17.84
| Weld | 36.10
| Yuma | 25.00
Connecticut | Fairfield | 320.04
| Hartford | 333.21
| Litchfield | 300.37
| Middlesex | 370.86
| New Haven | 331.00
| New London | 272.24
| Tolland | 261.57
| Windham | 200.99
Delaware | Kent | 219.29
| New Castle | 272.38
| Sussex | 215.28
Florida | Alachua | 104.77
| Baker | 126.18
| Bay | 101.07
| Bradford | 81.38
| Brevard | 105.37
| Broward | 446.05
| Calhoun | 41.34
| Charlotte | 98.63
| Citrus | 128.88
| Clay | 68.51
| Collier | 87.25
| Columbia | 88.29
| Dade | 494.83
| DeSoto | 91.41
| Dixie | 76.74
| Duval | 134.98
| Escambia | 94.99
| Flagler | 82.50
| Franklin | 37.81
| Gadsden | 86.23
| Gilchrist | 64.86
| Glades | 59.49
| Gulf | 81.43
| Hamilton | 56.18
| Hardee | 80.29
| Hendry | 78.98
| Hernando | 163.38
| Highlands | 57.18
| Hillsborough | 176.20
| Holmes | 54.94
| Indian River | 75.06
| Jackson | 65.55
| Jefferson | 81.99
| Lafayette | 80.27
| Lake | 146.74
| Lee | 184.62
| Leon | 107.08
| Levy | 116.25
| Liberty | 52.65
| Madison | 65.55
| Manatee | 108.80
| Marion | 182.04
| Martin | 128.10
| Monroe | 369.38
| Nassau | 93.16
| Okaloosa | 70.61
| Okeechobee | 89.39
| Orange | 162.82
| Osceola | 76.83
| Palm Beach | 138.00
| Pasco | 131.63
| Pinellas | 586.70
| Polk | 106.66
| Putnam | 107.61
| Santa Rosa | 153.23
| Sarasota | 127.61
| Seminole | 92.60
| St. Johns | 68.88
| St. Lucie | 93.70
| Sumter | 104.13
| Suwannee | 78.12
| Taylor | 74.06
| Union | 69.56
| Volusia | 119.46
| Wakulla | 68.17
| Walton | 55.98
| Washington | 55.94
Georgia | Appling | 61.77
| Atkinson | 70.41
| Bacon | 76.41
| Baker | 72.42
| Baldwin | 64.57
| Banks | 144.93
| Barrow | 144.90
| Bartow | 116.87
| Ben Hill | 66.91
| Berrien | 69.98
| Bibb | 86.20
| Bleckley | 61.40
| Brantley | 76.31
| Brooks | 87.12
| Bryan | 77.36
| Bulloch | 63.88
| Burke | 59.42
| Butts | 91.91
| Calhoun | 57.81
| Camden | 57.51
| Candler | 62.85
| Carroll | 117.00
| Catoosa | 149.55
| Charlton | 53.82
| Chatham | 136.19
| Chattahoochee | 54.87
| Chattooga | 81.22
| Cherokee | 250.26
| Clarke | 148.99
| Clay | 43.63
| Clayton | 147.01
| Clinch | 71.49
| Cobb | 322.78
| Coffee | 69.45
| Colquitt | 77.50
| Columbia | 129.53
| Cook | 72.58
| Coweta | 130.39
| Crawford | 81.35
| Crisp | 55.14
| Dade | 83.43
| Dawson | 205.31
| Decatur | 75.38
| DeKalb | 73.34
| Dodge | 58.10
| Dooly | 61.86
| Dougherty | 86.46
| Douglas | 173.89
| Early | 56.65
| Echols | 69.61
| Effingham | 73.31
| Elbert | 93.32
| Emanuel | 56.26
| Evans | 68.26
| Fannin | 171.61
| Fayette | 161.19
| Floyd | 102.82
| Forsyth | 290.06
| Franklin | 142.79
| Fulton | 178.87
| Gilmer | 162.01
| Glascock | 48.74
| Glynn | 103.48
| Gordon | 126.56
| Grady | 81.19
| Greene | 85.11
| Gwinnett | 272.65
| Habersham | 151.59
| Hall | 216.66
| Hancock | 90.32
| Haralson | 111.13
| Harris | 126.70
| Hart | 136.69
| Heard | 91.61
| Henry | 151.30
| Houston | 81.72
| Irwin | 67.07
| Jackson | 146.12
| Jasper | 91.35
| Jeff Davis | 87.62
| Jefferson | 52.70
| Jenkins | 49.56
| Johnson | 47.39
| Jones | 83.79
| Lamar | 101.24
| Lanier | 89.89
| Laurens | 54.11
| Lee | 75.91
| Liberty | 55.73
| Lincoln | 73.14
| Long | 64.96
| Lowndes | 93.32
| Lumpkin | 237.27
| Macon | 59.26
| Madison | 75.62
| Marion | 68.10
| McDuffie | 67.60
| McIntosh | 148.16
| Meriwether | 83.66
| Miller | 65.03
| Mitchell | 75.45
| Monroe | 89.96
| Montgomery | 45.57
| Morgan | 115.32
| Murray | 113.11
| Muscogee | 135.53
| Newton | 111.43
| Oconee | 190.54
| Oglethorpe | 85.44
| Paulding | 172.63
| Peach | 105.49
| Pickens | 177.15
| Pierce | 62.82
| Pike | 96.29
| Polk | 95.14
| Pulaski | 69.05
| Putnam | 100.31
| Quitman | 56.26
| Rabun | 186.71
| Randolph | 51.05
| Richmond | 69.91
| Rockdale | 184.21
| Schley | 59.95
| Screven | 56.29
| Seminole | 71.30
| Spalding | 137.94
| Stephens | 139.10
| Stewart | 51.77
| Sumter | 59.72
| Talbot | 54.97
| Taliaferro | 58.10
| Tattnall | 73.27
| Taylor | 53.42
| Telfair | 50.19
| Terrell | 62.36
| Thomas | 88.21
| Tift | 83.79
| Toombs | 62.56
| Towns | 155.98
| Treutlen | 47.32
| Troup | 105.03
| Turner | 62.89
| Twiggs | 65.99
| Union | 158.68
| Upson | 83.36
| Walker | 103.08
| Walton | 141.60
| Ware | 65.10
| Warren | 53.26
| Washington | 54.54
| Wayne | 72.45
| Webster | 46.76
| Wheeler | 39.37
| White | 181.14
| Whitfield | 127.85
| Wilcox | 64.34
| Wilkes | 73.27
| Wilkinson | 56.29
| Worth | 68.16
Hawaii | Hawaii | 169.66
| Honolulu | 428.59
| Kauai | 161.48
| Maui | 209.00
Idaho | Ada | 62.93
| Adams | 18.14
| Bannock | 21.55
| Bear Lake | 16.95
| Benewah | 18.93
| Bingham | 26.65
| Blaine | 34.07
| Boise | 16.92
| Bonner | 52.07
| Bonneville | 27.64
| Boundary | 40.78
| Butte | 18.36
| Camas | 17.69
| Canyon | 63.59
| Caribou | 16.71
| Cassia | 27.93
| Clark | 17.37
| Clearwater | 22.45
| Custer | 27.46
| Elmore | 24.40
| Franklin | 23.94
| Fremont | 26.62
| Gem | 32.93
| Gooding | 45.67
| Idaho | 16.63
| Jefferson | 31.24
| Jerome | 45.79
| Kootenai | 49.35
| Latah | 21.49
| Lemhi | 26.50
| Lewis | 16.72
| Lincoln | 31.30
| Madison | 39.51
| Minidoka | 41.35
| Nez Perce | 20.06
| Oneida | 14.16
| Owyhee | 14.64
| Payette | 36.03
| Power | 18.04
| Shoshone | 71.31
| Teton | 39.26
| Twin Falls | 36.85
| Valley | 29.48
| Washington | 11.91
Illinois | Adams | 137.89
| Alexander | 92.28
| Bond | 180.59
| Boone | 191.16
| Brown | 111.30
| Bureau | 204.67
| Calhoun | 106.10
| Carroll | 190.85
| Cass | 156.10
| Champaign | 222.21
| Christian | 211.47
| Clark | 137.12
| Clay | 132.97
| Clinton | 163.22
| Coles | 196.78
| Cook | 292.27
| Crawford | 139.49
| Cumberland | 151.84
| De Witt | 200.62
| DeKalb | 219.18
| Douglas | 212.38
| DuPage | 193.92
| Edgar | 183.31
| Edwards | 112.31
| Effingham | 161.79
| Fayette | 124.38
| Ford | 211.61
| Franklin | 103.52
| Fulton | 146.50
| Gallatin | 122.64
| Greene | 157.35
| Grundy | 212.62
| Hamilton | 101.04
| Hancock | 159.83
| Hardin | 98.70
| Henderson | 172.78
| Henry | 190.67
| Iroquois | 189.84
| Jackson | 109.90
| Jasper | 141.41
| Jefferson | 100.59
| Jersey | 164.58
| Jo Daviess | 135.51
| Johnson | 84.36
| Kane | 247.68
| Kankakee | 184.57
| Kendall | 242.35
| Knox | 191.69
| La Salle | 220.23
| Lake | 290.18
| Lawrence | 136.70
| Lee | 211.22
| Livingston | 200.62
| Logan | 200.48
| Macon | 218.62
| Macoupin | 173.54
| Madison | 178.11
| Marion | 117.27
| Marshall | 193.26
| Mason | 163.18
| Massac | 99.86
| McDonough | 196.15
| McHenry | 225.25
| McLean | 228.32
| Menard | 176.51
| Mercer | 169.50
| Monroe | 144.55
| Montgomery | 166.25
| Morgan | 186.52
| Moultrie | 214.57
| Ogle | 193.50
| Peoria | 193.15
| Perry | 113.64
| Piatt | 241.54
| Pike | 137.22
| Pope | 72.71
| Pulaski | 112.28
| Putnam | 175.67
| Randolph | 124.45
| Richland | 122.67
| Rock Island | 174.03
| Saline | 117.72
| Sangamon | 205.64
| Schuyler | 122.19
| Scott | 162.48
| Shelby | 168.52
| St. Clair | 176.23
| Stark | 207.60
| Stephenson | 189.84
| Tazewell | 207.63
| Union | 98.95
| Vermilion | 196.57
| Wabash | 148.25
| Warren | 193.19
| Washington | 144.58
| Wayne | 124.77
| White | 125.12
| Whiteside | 190.95
| Will | 218.62
| Williamson | 123.02
| Winnebago | 176.65
| Woodford | 216.32
Indiana | Adams | 161.61
| Allen | 172.21
| Bartholomew | 163.95
| Benton | 180.13
| Blackford | 117.92
| Boone | 172.14
| Brown | 111.65
| Carroll | 190.41
| Cass | 150.98
| Clark | 117.92
| Clay | 121.55
| Clinton | 186.12
| Crawford | 71.44
| Daviess | 180.72
| Dearborn | 113.56
| Decatur | 148.43
| DeKalb | 123.54
| Delaware | 147.84
| Dubois | 124.76
| Elkhart | 225.04
| Fayette | 129.64
| Floyd | 148.71
| Fountain | 133.82
| Franklin | 127.68
| Fulton | 140.13
| Gibson | 148.64
| Grant | 155.61
| Greene | 109.97
| Hamilton | 179.29
| Hancock | 159.48
| Harrison | 102.68
| Hendricks | 162.73
| Henry | 138.15
| Howard | 177.20
| Huntington | 152.09
| Jackson | 127.82
| Jasper | 171.06
| Jay | 183.12
| Jefferson | 98.74
| Jennings | 108.68
| Johnson | 169.91
| Knox | 157.50
| Kosciusko | 163.63
| LaGrange | 207.74
| Lake | 158.23
| LaPorte | 169.70
| Lawrence | 88.49
| Madison | 168.13
| Marion | 179.15
| Marshall | 145.12
| Martin | 112.62
| Miami | 141.39
| Monroe | 134.76
| Montgomery | 155.79
| Morgan | 137.31
| Newton | 158.26
| Noble | 134.83
| Ohio | 99.30
| Orange | 97.28
| Owen | 94.74
| Parke | 116.28
| Perry | 83.65
| Pike | 119.14
| Porter | 167.15
| Posey | 133.82
| Pulaski | 143.72
| Putnam | 117.09
| Randolph | 141.91
| Ripley | 113.77
| Rush | 169.84
| Scott | 100.17
| Shelby | 170.85
| Spencer | 107.95
| St. Joseph | 171.27
| Starke | 122.25
| Steuben | 125.14
| Sullivan | 116.53
| Switzerland | 98.40
| Tippecanoe | 187.76
| Tipton | 203.73
| Union | 138.21
| Vanderburgh | 118.03
| Vermillion | 132.53
| Vigo | 108.12
| Wabash | 144.14
| Warren | 164.30
| Warrick | 135.46
| Washington | 92.64
| Wayne | 144.42
| Wells | 176.57
| White | 190.73
| Whitley | 143.31
Iowa | Adair | 130.78
| Adams | 119.98
| Allamakee | 118.93
| Appanoose | 82.98
| Audubon | 186.22
| Benton | 201.77
| Black Hawk | 222.74
| Boone | 210.93
| Bremer | 215.57
| Buchanan | 204.95
| Buena Vista | 204.08
| Butler | 190.87
| Calhoun | 214.80
| Carroll | 210.30
| Cass | 152.72
| Cedar | 200.44
| Cerro Gordo | 185.35
| Cherokee | 207.47
| Chickasaw | 200.06
| Clarke | 94.41
| Clay | 206.42
| Clayton | 133.78
| Clinton | 198.52
| Crawford | 193.35
| Dallas | 188.04
| Davis | 82.25
| Decatur | 83.50
| Delaware | 201.42
| Des Moines | 155.79
| Dickinson | 197.37
| Dubuque | 170.29
| Emmet | 203.48
| Fayette | 192.27
| Floyd | 178.92
| Franklin | 185.77
| Fremont | 171.66
| Greene | 194.61
| Grundy | 224.48
| Guthrie | 162.05
| Hamilton | 227.00
| Hancock | 194.47
| Hardin | 206.42
| Harrison | 162.78
| Henry | 137.76
| Howard | 184.27
| Humboldt | 213.20
| Ida | 189.68
| Iowa | 169.17
| Jackson | 149.01
| Jasper | 173.79
| Jefferson | 128.33
| Johnson | 191.95
| Jones | 187.24
| Keokuk | 139.30
| Kossuth | 212.64
| Lee | 119.28
| Linn | 187.90
| Louisa | 160.51
| Lucas | 80.32
| Lyon | 230.46
| Madison | 137.03
| Mahaska | 157.16
| Marion | 124.73
| Marshall | 185.11
| Mills | 176.55
| Mitchell | 206.07
| Monona | 153.49
| Monroe | 88.64
| Montgomery | 156.81
| Muscatine | 175.78
| O'Brien | 238.63
| Osceola | 196.74
| Page | 140.63
| Palo Alto | 210.26
| Plymouth | 205.51
| Pocahontas | 213.41
| Polk | 197.13
| Pottawattamie | 196.57
| Poweshiek | 169.94
| Ringgold | 95.59
| Sac | 207.40
| Scott | 226.89
| Shelby | 189.30
| Sioux | 254.50
| Story | 219.07
| Tama | 181.75
| Taylor | 106.98
| Union | 96.19
| Van Buren | 97.13
| Wapello | 115.30
| Warren | 142.94
| Washington | 170.71
| Wayne | 90.35
| Webster | 205.51
| Winnebago | 188.60
| Winneshiek | 166.55
| Woodbury | 166.97
| Worth | 171.76
| Wright | 201.49
Kansas | Allen | 38.37
| Anderson | 42.80
| Atchison | 59.18
| Barber | 33.39
| Barton | 43.07
| Bourbon | 39.78
| Brown | 89.89
| Butler | 48.36
| Chase | 37.27
| Chautauqua | 31.74
| Cherokee | 51.18
| Cheyenne | 43.52
| Clark | 25.01
| Clay | 58.02
| Cloud | 54.72
| Coffey | 41.94
| Comanche | 25.32
| Cowley | 39.36
| Crawford | 46.03
| Decatur | 41.91
| Dickinson | 55.44
| Doniphan | 98.89
| Douglas | 78.42
| Edwards | 58.63
| Elk | 34.86
| Ellis | 36.62
| Ellsworth | 36.44
| Finney | 39.54
| Ford | 33.46
| Franklin | 63.79
| Geary | 53.27
| Gove | 35.34
| Graham | 36.24
| Grant | 36.62
| Gray | 36.68
| Greeley | 40.88
| Greenwood | 38.71
| Hamilton | 27.79
| Harper | 41.70
| Harvey | 70.62
| Haskell | 37.85
| Hodgeman | 29.54
| Jackson | 48.36
| Jefferson | 61.48
| Jewell | 53.03
| Johnson | 119.26
| Kearny | 35.65
| Kingman | 39.26
| Kiowa | 33.87
| Labette | 40.84
| Lane | 35.34
| Leavenworth | 88.89
| Lincoln | 41.05
| Linn | 48.36
| Logan | 32.43
| Lyon | 42.87
| Marion | 57.95
| Marshall | 73.99
| McPherson | 62.03
| Meade | 33.52
| Miami | 86.04
| Mitchell | 61.55
| Montgomery | 42.52
| Morris | 40.36
| Morton | 23.25
| Nemaha | 77.56
| Neosho | 41.15
| Ness | 28.61
| Norton | 36.41
| Osage | 44.69
| Osborne | 37.65
| Ottawa | 51.73
| Pawnee | 50.08
| Phillips | 34.38
| Pottawatomie | 52.42
| Pratt | 43.97
| Rawlins | 47.92
| Reno | 49.36
| Republic | 72.85
| Rice | 43.90
| Riley | 50.25
| Rooks | 36.07
| Rush | 35.65
| Russell | 31.39
| Saline | 54.31
| Scott | 41.70
| Sedgwick | 65.30
| Seward | 31.64
| Shawnee | 68.39
| Sheridan | 52.73
| Sherman | 46.92
| Smith | 44.58
| Stafford | 48.57
| Stanton | 30.43
| Stevens | 37.68
| Sumner | 49.26
| Thomas | 58.60
| Trego | 36.07
| Wabaunsee | 40.39
| Wallace | 34.66
| Washington | 64.13
| Wichita | 37.30
| Wilson | 39.50
| Woodson | 37.82
| Wyandotte | 132.14
Kentucky | Adair | 71.19
| Allen | 82.17
| Anderson | 86.65
| Ballard | 94.61
| Barren | 81.89
| Bath | 54.26
| Bell | 54.08
| Boone | 171.57
| Bourbon | 118.35
| Boyd | 64.86
| Boyle | 94.68
| Bracken | 58.26
| Breathitt | 39.76
| Breckinridge | 66.70
| Bullitt | 101.36
| Butler | 56.24
| Caldwell | 76.05
| Calloway | 82.52
| Campbell | 122.14
| Carlisle | 78.66
| Carroll | 73.34
| Carter | 48.87
| Casey | 56.48
| Christian | 96.04
| Clark | 91.28
| Clay | 44.28
| Clinton | 72.12
| Crittenden | 59.85
| Cumberland | 47.48
| Daviess | 107.99
| Edmonson | 66.15
| Elliott | 37.75
| Estill | 51.37
| Fayette | 253.39
| Fleming | 58.29
| Floyd | 40.95
| Franklin | 102.43
| Fulton | 97.05
| Gallatin | 84.15
| Garrard | 68.72
| Grant | 85.09
| Graves | 90.16
| Grayson | 63.12
| Green | 62.98
| Greenup | 49.22
| Hancock | 78.21
| Hardin | 97.46
| Harlan | 36.77
| Harrison | 75.91
| Hart | 61.70
| Henderson | 101.53
| Henry | 92.94
| Hickman | 96.77
| Hopkins | 80.71
| Jackson | 50.54
| Jefferson | 240.04
| Jessamine | 152.17
| Johnson | 48.66
| Kenton | 121.24
| Knott | 37.61
| Knox | 48.63
| Larue | 95.17
| Laurel | 95.90
| Lawrence | 39.38
| Lee | 52.90
| Leslie | 120.86
| Letcher | 64.30
| Lewis | 40.84
| Lincoln | 69.20
| Livingston | 59.16
| Logan | 93.12
| Lyon | 56.31
| Madison | 83.91
| Magoffin | 41.22
| Marion | 74.87
| Marshall | 85.02
| Martin | 139.97
| Mason | 71.67
| McCracken | 85.58
| McCreary | 49.77
| McLean | 104.55
| Meade | 90.20
| Menifee | 49.70
| Mercer | 93.95
| Metcalfe | 62.74
| Monroe | 65.59
| Montgomery | 76.26
| Morgan | 35.49
| Muhlenberg | 64.62
| Nelson | 93.50
| Nicholas | 60.03
| Ohio | 68.06
| Oldham | 173.72
| Owen | 64.13
| Owsley | 37.50
| Pendleton | 65.83
| Perry | 33.54
| Pike | 37.09
| Powell | 44.21
| Pulaski | 80.54
| Robertson | 50.26
| Rockcastle | 56.52
| Rowan | 59.30
| Russell | 85.64
| Scott | 127.15
| Shelby | 135.73
| Simpson | 115.75
| Spencer | 87.14
| Taylor | 77.37
| Todd | 102.61
| Trigg | 82.31
| Trimble | 87.77
| Union | 114.11
| Warren | 100.28
| Washington | 71.19
| Wayne | 63.23
| Webster | 88.81
| Whitley | 60.27
| Wolfe | 41.36
| Woodford | 226.76
Louisiana | Acadia | 58.49
| Allen | 55.40
| Ascension | 92.77
| Assumption | 80.34
| Avoyelles | 59.81
| Beauregard | 65.84
| Bienville | 62.71
| Bossier | 88.65
| Caddo | 71.77
| Calcasieu | 67.65
| Caldwell | 65.28
| Cameron | 46.37
| Catahoula | 64.00
| Claiborne | 66.37
| Concordia | 60.83
| De Soto | 71.41
| East Baton Rouge | 151.49
| East Carroll | 72.20
| East Feliciana | 78.60
| Evangeline | 55.92
| Franklin | 60.11
| Grant | 56.25
| Iberia | 82.65
| Iberville | 47.52
| Jackson | 74.61
| Jefferson | 100.28
| Jefferson Davis | 59.91
| La Salle | 67.62
| Lafayette | 125.75
| Lafourche | 56.62
| Lincoln | 87.72
| Livingston | 151.52
| Madison | 65.05
| Morehouse | 62.41
| Natchitoches | 64.00
| Orleans | 408.33
| Ouachita | 76.88
| Plaquemines | 33.28
| Pointe Coupee | 72.33
| Rapides | 67.03
| Red River | 51.51
| Richland | 60.54
| Sabine | 83.84
| St. Bernard | 43.83
| St. Charles | 57.11
| St. Helena | 88.22
| St. James | 92.80
| St. John the Baptist | 76.72
| St. Landry | 63.40
| St. Martin | 65.18
| St. Mary | 66.11
| St. Tammany | 192.85
| Tangipahoa | 108.55
| Tensas | 57.93
| Terrebonne | 59.12
| Union | 76.68
| Vermilion | 68.51
| Vernon | 83.31
| Washington | 93.46
| Webster | 91.81
| West Baton Rouge | 98.86
| West Carroll | 56.29
| West Feliciana | 69.57
| Winn | 63.73
Maine | Androscoggin | 67.50
| Aroostook | 37.59
| Cumberland | 129.22
| Franklin | 57.20
| Hancock | 88.70
| Kennebec | 75.47
| Knox | 99.99
| Lincoln | 91.86
| Oxford | 66.94
| Penobscot | 53.06
| Piscataquis | 45.16
| Sagadahoc | 99.50
| Somerset | 55.79
| Waldo | 49.11
| Washington | 41.17
| York | 128.19
Maryland | Allegany | 95.77
| Anne Arundel | 317.51
| Baltimore | 258.86
| Calvert | 206.66
| Caroline | 167.51
| Carroll | 223.32
| Cecil | 198.95
| Charles | 176.94
| Dorchester | 142.90
| Frederick | 208.27
| Garrett | 115.38
| Harford | 226.61
| Howard | 300.58
| Kent | 186.81
| Montgomery | 278.91
| Prince George's | 216.32
| Queen Anne's | 204.12
| Somerset | 150.03
| St. Mary's | 181.05
| Talbot | 181.33
| Washington | 164.02
| Wicomico | 172.31
| Worcester | 163.74
Massachusetts | Barnstable | 856.94
| Berkshire | 168.80
| Bristol | 350.48
| Dukes | 235.52
| Essex | 500.39
| Franklin | 146.18
| Hampden | 176.46
| Hampshire | 193.97
| Middlesex | 459.86
| Nantucket | 640.68
| Norfolk | 583.45
| Plymouth | 276.61
| Suffolk | 4,926.45
| Worcester | 224.40
Michigan | Alcona | 66.02
| Alger | 56.07
| Allegan | 129.75
| Alpena | 65.89
| Antrim | 97.08
| Arenac | 75.37
| Baraga | 50.05
| Barry | 107.81
| Bay | 108.83
| Benzie | 112.92
| Berrien | 151.46
| Branch | 96.26
| Calhoun | 99.58
| Cass | 107.27
| Charlevoix | 99.79
| Cheboygan | 67.25
| Chippewa | 43.95
| Clare | 76.79
| Clinton | 117.70
| Crawford | 89.59
| Delta | 52.86
| Dickinson | 59.90
| Eaton | 100.84
| Emmet | 85.63
| Genesee | 104.76
| Gladwin | 76.39
| Gogebic | 71.07
| Grand Traverse | 144.45
| Gratiot | 122.17
| Hillsdale | 93.28
| Houghton | 48.01
| Huron | 140.93
| Ingham | 110.49
| Ionia | 112.96
| Iosco | 72.39
| Iron | 53.87
| Isabella | 103.10
| Jackson | 103.54
| Kalamazoo | 126.03
| Kalkaska | 82.45
| Kent | 158.67
| Keweenaw | 68.16
| Lake | 70.36
| Lapeer | 123.86
| Leelanau | 182.34
| Lenawee | 109.91
| Livingston | 131.34
| Luce | 62.17
| Mackinac | 56.28
| Macomb | 149.59
| Manistee | 77.88
| Marquette | 55.19
| Mason | 77.34
| Mecosta | 80.93
| Menominee | 54.35
| Midland | 97.52
| Missaukee | 81.94
| Monroe | 123.32
| Montcalm | 90.37
| Montmorency | 61.56
| Muskegon | 138.96
| Newaygo | 96.37
| Oakland | 232.21
| Oceana | 87.26
| Ogemaw | 71.78
| Ontonagon | 45.88
| Osceola | 68.70
| Oscoda | 71.21
| Otsego | 68.43
| Ottawa | 174.92
| Presque Isle | 58.10
| Roscommon | 71.14
| Saginaw | 103.37
| Sanilac | 118.81
| Schoolcraft | 43.98
| Shiawassee | 96.91
| St. Clair | 101.21
| St. Joseph | 128.77
| Tuscola | 123.05
| Van Buren | 120.41
| Washtenaw | 138.01
| Wayne | 201.60
| Wexford | 77.13
Minnesota | Aitkin | 49.13
| Anoka | 168.14
| Becker | 75.71
| Beltrami | 47.35
| Benton | 95.74
| Big Stone | 108.74
| Blue Earth | 178.74
| Brown | 153.79
| Carlton | 52.19
| Carver | 161.45
| Cass | 53.24
| Chippewa | 144.03
| Chisago | 121.35
| Clay | 98.08
| Clearwater | 46.79
| Cook | 132.22
| Cottonwood | 153.13
| Crow Wing | 72.12
| Dakota | 158.18
| Dodge | 171.35
| Douglas | 85.78
| Faribault | 156.75
| Fillmore | 127.87
| Freeborn | 152.01
| Goodhue | 151.00
| Grant | 100.80
| Hennepin | 229.53
| Houston | 96.23
| Hubbard | 62.82
| Isanti | 103.79
| Itasca | 52.51
| Jackson | 170.30
| Kanabec | 63.97
| Kandiyohi | 133.96
| Kittson | 48.88
| Koochiching | 32.79
| Lac qui Parle | 122.26
| Lake | 91.56
| Lake of the Woods | 41.53
| Le Sueur | 154.63
| Lincoln | 108.08
| Lyon | 144.87
| Mahnomen | 56.72
| Marshall | 58.78
| Martin | 170.97
| McLeod | 150.10
| Meeker | 115.95
| Mille Lacs | 76.72
| Morrison | 77.31
| Mower | 166.89
| Murray | 157.31
| Nicollet | 180.86
| Nobles | 164.94
| Norman | 83.41
| Olmsted | 152.53
| Otter Tail | 69.82
| Pennington | 50.62
| Pine | 56.23
| Pipestone | 146.33
| Polk | 80.90
| Pope | 102.19
| Ramsey | 255.73
| Red Lake | 48.78
| Redwood | 176.30
| Renville | 168.77
| Rice | 159.75
| Rock | 195.95
| Roseau | 33.10
| Scott | 173.58
| Sherburne | 119.89
| Sibley | 167.06
| St. Louis | 52.40
| Stearns | 108.74
| Steele | 167.20
| Stevens | 124.52
| Swift | 142.61
| Todd | 65.88
| Traverse | 123.97
| Wabasha | 130.93
| Wadena | 49.72
| Waseca | 163.93
| Washington | 229.60
| Watonwan | 170.34
| Wilkin | 108.77
| Winona | 130.62
| Wright | 149.43
| Yellow Medicine | 127.59
Mississippi | Adams | 58.54
| Alcorn | 50.35
| Amite | 90.78
| Attala | 48.59
| Benton | 43.06
| Bolivar | 65.25
| Calhoun | 49.74
| Carroll | 50.68
| Chickasaw | 49.84
| Choctaw | 53.21
| Claiborne | 54.26
| Clarke | 63.60
| Clay | 44.21
| Coahoma | 68.05
| Copiah | 61.68
| Covington | 79.35
| DeSoto | 71.25
| Forrest | 92.16
| Franklin | 69.13
| George | 90.68
| Greene | 58.67
| Grenada | 49.30
| Hancock | 106.93
| Harrison | 167.22
| Hinds | 61.84
| Holmes | 56.58
| Humphreys | 59.58
| Issaquena | 51.73
| Itawamba | 54.16
| Jackson | 101.90
| Jasper | 53.89
| Jefferson | 57.16
| Jefferson Davis | 53.55
| Jones | 86.02
| Kemper | 46.87
| Lafayette | 60.50
| Lamar | 97.18
| Lauderdale | 64.41
| Lawrence | 72.53
| Leake | 72.23
| Lee | 51.59
| Leflore | 54.43
| Lincoln | 80.86
| Lowndes | 57.26
| Madison | 70.65
| Marion | 80.02
| Marshall | 53.21
| Monroe | 47.18
| Montgomery | 47.98
| Neshoba | 83.12
| Newton | 56.18
| Noxubee | 58.30
| Oktibbeha | 59.42
| Panola | 51.90
| Pearl River | 86.33
| Perry | 77.22
| Pike | 95.83
| Pontotoc | 49.06
| Prentiss | 42.32
| Quitman | 54.32
| Rankin | 80.66
| Scott | 68.18
| Sharkey | 61.84
| Simpson | 73.88
| Smith | 79.75
| Stone | 98.60
| Sunflower | 52.64
| Tallahatchie | 60.66
| Tate | 54.16
| Tippah | 43.90
| Tishomingo | 49.97
| Tunica | 72.87
| Union | 55.91
| Walthall | 80.73
| Warren | 50.65
| Washington | 57.36
| Wayne | 78.60
| Webster | 48.73
| Wilkinson | 60.63
| Winston | 58.61
| Yalobusha | 49.10
| Yazoo | 56.65
Missouri | Adair | 67.31
| Andrew | 97.64
| Atchison | 133.46
| Audrain | 104.91
| Barry | 69.64
| Barton | 57.77
| Bates | 62.23
| Benton | 57.36
| Bollinger | 55.27
| Boone | 100.01
| Buchanan | 94.72
| Butler | 87.38
| Caldwell | 62.44
| Callaway | 89.68
| Camden | 59.73
| Cape Girardeau | 85.97
| Carroll | 86.01
| Carter | 45.63
| Cass | 91.05
| Cedar | 50.02
| Chariton | 81.58
| Christian | 85.73
| Clark | 72.83
| Clay | 117.54
| Clinton | 94.07
| Cole | 79.94
| Cooper | 77.98
| Crawford | 57.09
| Dade | 60.18
| Dallas | 63.85
| Daviess | 76.40
| DeKalb | 77.33
| Dent | 43.98
| Douglas | 44.57
| Dunklin | 103.47
| Franklin | 102.17
| Gasconade | 67.28
| Gentry | 72.35
| Greene | 101.07
| Grundy | 63.19
| Harrison | 68.44
| Henry | 58.29
| Hickory | 53.28
| Holt | 104.26
| Howard | 69.64
| Howell | 51.67
| Iron | 44.19
| Jackson | 110.81
| Jasper | 64.15
| Jefferson | 93.52
| Johnson | 72.59
| Knox | 81.82
| Laclede | 60.38
| Lafayette | 115.96
| Lawrence | 70.33
| Lewis | 79.42
| Lincoln | 107.04
| Linn | 66.32
| Livingston | 80.04
| Macon | 68.00
| Madison | 50.50
| Maries | 53.55
| Marion | 97.74
| McDonald | 63.50
| Mercer | 60.90
| Miller | 60.96
| Mississippi | 113.97
| Moniteau | 74.04
| Monroe | 85.77
| Montgomery | 94.76
| Morgan | 72.63
| New Madrid | 121.72
| Newton | 70.74
| Nodaway | 89.23
| Oregon | 42.71
| Osage | 56.20
| Ozark | 44.57
| Pemiscot | 99.29
| Perry | 73.35
| Pettis | 75.10
| Phelps | 63.16
| Pike | 95.00
| Platte | 106.70
| Polk | 56.71
| Pulaski | 53.45
| Putnam | 56.61
| Ralls | 88.10
| Randolph | 72.18
| Ray | 74.93
| Reynolds | 40.14
| Ripley | 49.23
| Saline | 110.40
| Schuyler | 61.10
| Scotland | 80.59
| Scott | 111.91
| Shannon | 45.83
| Shelby | 97.50
| St Louis | 113.28
| St. Charles | 116.37
| St. Clair | 45.46
| St. Francois | 68.96
| Ste. Genevieve | 63.26
| Stoddard | 120.56
| Stone | 65.01
| Sullivan | 50.98
| Taney | 53.83
| Texas | 45.05
| Vernon | 59.18
| Warren | 106.49
| Washington | 52.66
| Wayne | 41.92
| Webster | 71.70
| Worth | 61.86
| Wright | 49.33
Montana | Beaverhead | 24.48
| Big Horn | 9.69
| Blaine | 13.12
| Broadwater | 25.11
| Carbon | 25.85
| Carter | 11.80
| Cascade | 23.16
| Chouteau | 17.62
| Custer | 8.84
| Daniels | 11.34
| Dawson | 9.83
| Deer Lodge | 35.41
| Fallon | 9.63
| Fergus | 18.99
| Flathead | 109.65
| Gallatin | 58.02
| Garfield | 10.84
| Glacier | 14.99
| Golden Valley | 12.38
| Granite | 28.02
| Hill | 14.22
| Jefferson | 24.89
| Judith Basin | 19.60
| Lake | 35.08
| Lewis and Clark | 33.27
| Liberty | 13.34
| Lincoln | 82.39
| Madison | 27.50
| McCone | 10.54
| Meagher | 21.11
| Mineral | 97.66
| Missoula | 60.79
| Musselshell | 10.84
| Park | 56.05
| Petroleum | 9.63
| Phillips | 12.63
| Pondera | 17.81
| Powder River | 12.10
| Powell | 20.78
| Prairie | 12.38
| Ravalli | 106.63
| Richland | 13.12
| Roosevelt | 13.89
| Rosebud | 9.06
| Sanders | 26.07
| Sheridan | 13.01
| Silver Bow | 34.45
| Stillwater | 30.66
| Sweet Grass | 23.60
| Teton | 23.08
| Toole | 15.75
| Treasure | 11.03
| Valley | 10.90
| Wheatland | 11.25
| Wibaux | 10.27
| Yellowstone | 16.77
Nebraska | Adams | 134.40
| Antelope | 108.33
| Arthur | 10.76
| Banner | 19.61
| Blaine | 13.05
| Boone | 112.25
| Box Butte | 27.19
| Boyd | 35.02
| Brown | 18.24
| Buffalo | 95.18
| Burt | 132.84
| Butler | 126.00
| Cass | 147.52
| Cedar | 112.25
| Chase | 50.07
| Cherry | 13.53
| Cheyenne | 22.73
| Clay | 130.71
| Colfax | 134.75
| Cuming | 136.60
| Custer | 48.32
| Dakota | 122.21
| Dawes | 18.94
| Dawson | 79.11
| Deuel | 25.44
| Dixon | 105.62
| Dodge | 142.90
| Douglas | 158.34
| Dundy | 34.60
| Fillmore | 140.39
| Franklin | 75.61
| Frontier | 37.37
| Furnas | 59.62
| Gage | 88.91
| Garden | 15.57
| Garfield | 25.24
| Gosper | 80.60
| Grant | 14.07
| Greeley | 82.23
| Hall | 113.84
| Hamilton | 164.17
| Harlan | 78.50
| Hayes | 32.95
| Hitchcock | 32.85
| Holt | 53.29
| Hooker | 11.27
| Howard | 75.10
| Jefferson | 100.02
| Johnson | 64.81
| Kearney | 134.53
| Keith | 47.34
| Keya Paha | 19.74
| Kimball | 22.09
| Knox | 70.64
| Lancaster | 116.64
| Lincoln | 36.58
| Logan | 28.94
| Loup | 18.88
| Madison | 122.69
| McPherson | 11.40
| Merrick | 97.73
| Morrill | 23.49
| Nance | 87.03
| Nemaha | 103.59
| Nuckolls | 96.07
| Otoe | 109.38
| Pawnee | 65.90
| Perkins | 57.84
| Phelps | 114.70
| Pierce | 110.11
| Platte | 129.56
| Polk | 151.34
| Red Willow | 40.59
| Richardson | 97.09
| Rock | 27.44
| Saline | 122.69
| Sarpy | 151.75
| Saunders | 134.15
| Scotts Bluff | 47.56
| Seward | 128.13
| Sheridan | 17.64
| Sherman | 60.33
| Sioux | 14.58
| Stanton | 111.42
| Thayer | 104.99
| Thomas | 12.80
| Thurston | 128.58
| Valley | 56.25
| Washington | 153.41
| Wayne | 111.35
| Webster | 72.07
| Wheeler | 31.20
| York | 143.41
Nevada | Carson City | 53.84
| Churchill | 19.52
| Clark | 45.04
| Douglas | 23.15
| Elko | 3.97
| Esmeralda | 14.38
| Eureka | 5.19
| Humboldt | 7.96
| Lander | 5.96
| Lincoln | 23.33
| Lyon | 17.61
| Mineral | 3.44
| Nye | 17.17
| Pershing | 7.49
| Storey | 308.06
| Washoe | 6.53
| White Pine | 6.56
New Hampshire | Belknap | 143.30
| Carroll | 124.64
| Cheshire | 76.80
| Coos | 62.60
| Grafton | 78.01
| Hillsborough | 170.39
| Merrimack | 104.25
| Rockingham | 194.85
| Strafford | 128.64
| Sullivan | 103.30
New Jersey | Atlantic | 307.49
| Bergen | 1,051.95
| Burlington | 241.76
| Camden | 314.04
| Cape May | 287.87
| Cumberland | 200.54
| Essex | 1,584.16
| Gloucester | 297.23
| Hudson | 319.28
| Hunterdon | 409.35
| Mercer | 506.91
| Middlesex | 491.34
| Monmouth | 538.64
| Morris | 577.73
| Ocean | 385.52
| Passaic | 778.78
| Salem | 197.05
| Somerset | 511.59
| Sussex | 266.37
| Union | 3,146.99
| Warren | 255.33
New Mexico | Bernalillo | 22.08
| Catron | 8.32
| Chaves | 7.01
| Cibola | 6.09
| Colfax | 7.72
| Curry | 11.27
| De Baca | 4.82
| Dona Ana | 34.86
| Eddy | 8.71
| Grant | 7.30
| Guadalupe | 5.18
| Harding | 5.50
| Hidalgo | 4.82
| Lea | 6.60
| Lincoln | 6.89
| Los Alamos | 297.31
| Luna | 8.25
| McKinley | 6.13
| Mora | 10.81
| Otero | 8.18
| Quay | 6.52
| Rio Arriba | 14.09
| Roosevelt | 9.49
| San Juan | 6.77
| San Miguel | 7.35
| Sandoval | 10.17
| Santa Fe | 16.48
| Sierra | 5.57
| Socorro | 9.59
| Taos | 22.83
| Torrance | 7.08
| Union | 7.16
| Valencia | 18.35
New York | Albany | 84.13
| Allegany | 47.51
| Bronx | 70.59
| Broome | 71.20
| Cattaraugus | 51.34
| Cayuga | 87.28
| Chautauqua | 56.06
| Chemung | 65.36
| Chenango | 49.82
| Clinton | 54.98
| Columbia | 141.78
| Cortland | 51.75
| Delaware | 67.67
| Dutchess | 140.83
| Erie | 80.32
| Essex | 57.28
| Franklin | 45.61
| Fulton | 58.30
| Genesee | 71.47
| Greene | 101.43
| Hamilton | 49.48
| Herkimer | 52.33
| Jefferson | 44.52
| Kings | 21,514.93
| Lewis | 45.34
| Livingston | 78.66
| Madison | 55.45
| Monroe | 96.41
| Montgomery | 62.41
| Nassau | 497.69
| New York | 70.59
| Niagara | 62.24
| Oneida | 54.06
| Onondaga | 85.65
| Ontario | 87.49
| Orange | 150.33
| Orleans | 70.52
| Oswego | 54.91
| Otsego | 60.95
| Putnam | 148.43
| Queens | 139.20
| Rensselaer | 93.29
| Richmond | 4,786.53
| Rockland | 2,351.47
| Saratoga | 130.07
| Schenectady | 93.76
| Schoharie | 61.86
| Schuyler | 77.58
| Seneca | 79.95
| St. Lawrence | 38.48
| Steuben | 49.78
| Suffolk | 317.57
| Sullivan | 99.97
| Tioga | 53.41
| Tompkins | 74.86
| Ulster | 136.89
| Warren | 108.52
| Washington | 65.87
| Wayne | 67.29
| Westchester | 437.15
| Wyoming | 71.06
| Yates | 107.40
North Carolina | Alamance | 128.17
| Alexander | 161.71
| Alleghany | 130.55
| Anson | 101.26
| Ashe | 154.61
| Avery | 189.41
| Beaufort | 83.08
| Bertie | 73.47
| Bladen | 89.47
| Brunswick | 116.96
| Buncombe | 233.82
| Burke | 144.55
| Cabarrus | 199.12
| Caldwell | 150.09
| Camden | 77.24
| Carteret | 89.37
| Caswell | 78.22
| Catawba | 146.80
| Chatham | 134.87
| Cherokee | 156.21
| Chowan | 86.14
| Clay | 135.65
| Cleveland | 111.90
| Columbus | 82.44
| Craven | 84.10
| Cumberland | 84.85
| Currituck | 111.12
| Dare | 104.86
| Davidson | 166.84
| Davie | 167.93
| Duplin | 110.81
| Durham | 233.17
| Edgecombe | 71.60
| Forsyth | 225.87
| Franklin | 116.11
| Gaston | 164.80
| Gates | 94.60
| Graham | 163.82
| Granville | 111.66
| Greene | 106.02
| Guilford | 168.13
| Halifax | 64.46
| Harnett | 145.40
| Haywood | 172.18
| Henderson | 212.24
| Hertford | 65.04
| Hoke | 87.09
| Hyde | 66.87
| Iredell | 163.48
| Jackson | 262.50
| Johnston | 132.73
| Jones | 72.51
| Lee | 113.63
| Lenoir | 91.75
| Lincoln | 151.45
| Macon | 207.45
| Madison | 147.17
| Martin | 76.63
| McDowell | 156.82
| Mecklenburg | 559.76
| Mitchell | 143.30
| Montgomery | 111.42
| Moore | 144.76
| Nash | 103.64
| New Hanover | 386.87
| Northampton | 71.15
| Onslow | 103.81
| Orange | 181.93
| Pamlico | 78.22
| Pasquotank | 85.87
| Pender | 114.96
| Perquimans | 88.21
| Person | 103.23
| Pitt | 86.48
| Polk | 199.33
| Randolph | 130.28
| Richmond | 111.97
| Robeson | 79.85
| Rockingham | 109.96
| Rowan | 153.80
| Rutherford | 109.69
| Sampson | 108.06
| Scotland | 97.86
| Stanly | 139.76
| Stokes | 104.59
| Surry | 124.71
| Swain | 171.02
| Transylvania | 240.24
| Tyrrell | 69.18
| Union | 153.52
| Vance | 94.06
| Wake | 260.29
| Warren | 69.66
| Washington | 82.03
| Watauga | 203.17
| Wayne | 112.10
| Wilkes | 131.64
| Wilson | 103.78
| Yadkin | 143.19
| Yancey | 176.22
North Dakota | Adams | 22.49
| Barnes | 62.34
| Benson | 36.05
| Billings | 21.96
| Bottineau | 37.69
| Bowman | 20.99
| Burke | 23.39
| Burleigh | 39.26
| Cass | 79.91
| Cavalier | 53.06
| Dickey | 62.86
| Divide | 18.02
| Dunn | 25.45
| Eddy | 37.30
| Emmons | 32.84
| Foster | 52.09
| Golden Valley | 23.50
| Grand Forks | 58.61
| Grant | 25.73
| Griggs | 50.87
| Hettinger | 31.27
| Kidder | 25.80
| LaMoure | 60.31
| Logan | 28.52
| McHenry | 25.07
| McIntosh | 32.81
| McKenzie | 20.57
| McLean | 36.61
| Mercer | 26.57
| Morton | 28.52
| Mountrail | 25.38
| Nelson | 32.77
| Oliver | 28.48
| Pembina | 71.89
| Pierce | 28.66
| Ramsey | 38.84
| Ransom | 50.97
| Renville | 45.11
| Richland | 82.84
| Rolette | 31.34
| Sargent | 66.17
| Sheridan | 26.08
| Sioux | 24.93
| Slope | 23.78
| Stark | 37.86
| Steele | 51.60
| Stutsman | 48.70
| Towner | 35.77
| Traill | 80.92
| Walsh | 66.31
| Ward | 42.88
| Wells | 45.11
| Williams | 20.78
Ohio | Adams | 79.70
| Allen | 147.11
| Ashland | 127.45
| Ashtabula | 91.19
| Athens | 77.44
| Auglaize | 168.28
| Belmont | 93.10
| Brown | 100.30
| Butler | 162.74
| Carroll | 103.51
| Champaign | 149.20
| Clark | 143.04
| Clermont | 142.17
| Clinton | 138.17
| Columbiana | 135.35
| Coshocton | 95.50
| Crawford | 130.34
| Cuyahoga | 476.46
| Darke | 197.61
| Defiance | 124.81
| Delaware | 165.32
| Erie | 131.07
| Fairfield | 132.88
| Fayette | 152.37
| Franklin | 171.27
| Fulton | 154.70
| Gallia | 90.59
| Geauga | 197.51
| Greene | 167.41
| Guernsey | 79.94
| Hamilton | 202.77
| Hancock | 131.73
| Hardin | 136.08
| Harrison | 83.74
| Henry | 157.17
| Highland | 100.76
| Hocking | 99.82
| Holmes | 162.12
| Huron | 124.88
| Jackson | 65.78
| Jefferson | 76.71
| Knox | 133.05
| Lake | 210.21
| Lawrence | 67.97
| Licking | 136.26
| Logan | 138.62
| Lorain | 130.79
| Lucas | 160.86
| Madison | 141.79
| Mahoning | 138.31
| Marion | 132.88
| Medina | 177.15
| Meigs | 67.59
| Mercer | 218.67
| Miami | 158.77
| Monroe | 64.25
| Montgomery | 163.09
| Morgan | 66.89
| Morrow | 130.37
| Muskingum | 90.84
| Noble | 70.93
| Ottawa | 132.32
| Paulding | 134.97
| Perry | 100.93
| Pickaway | 133.44
| Pike | 88.44
| Portage | 144.64
| Preble | 146.35
| Putnam | 140.01
| Richland | 138.17
| Ross | 100.44
| Sandusky | 131.11
| Scioto | 78.31
| Seneca | 135.66
| Shelby | 165.73
| Stark | 153.52
| Summit | 235.31
| Trumbull | 111.58
| Tuscarawas | 106.67
| Union | 143.01
| Van Wert | 174.75
| Vinton | 67.59
| Warren | 199.08
| Washington | 74.51
| Wayne | 173.67
| Williams | 106.57
| Wood | 162.08
| Wyandot | 140.01
Oklahoma | Adair | 54.58
| Alfalfa | 39.20
| Atoka | 38.51
| Beaver | 18.41
| Beckham | 30.48
| Blaine | 32.83
| Bryan | 48.86
| Caddo | 36.89
| Canadian | 53.13
| Carter | 43.55
| Cherokee | 65.37
| Choctaw | 40.58
| Cimarron | 13.93
| Cleveland | 86.20
| Coal | 34.76
| Comanche | 38.10
| Cotton | 31.07
| Craig | 43.93
| Creek | 49.31
| Custer | 36.96
| Delaware | 63.96
| Dewey | 27.93
| Ellis | 22.00
| Garfield | 39.55
| Garvin | 43.58
| Grady | 44.41
| Grant | 37.65
| Greer | 23.62
| Harmon | 26.27
| Harper | 21.00
| Haskell | 41.76
| Hughes | 34.41
| Jackson | 27.62
| Jefferson | 27.89
| Johnston | 37.07
| Kay | 37.31
| Kingfisher | 37.58
| Kiowa | 26.52
| Latimer | 36.76
| Le Flore | 54.75
| Lincoln | 47.55
| Logan | 51.96
| Love | 47.72
| Major | 30.96
| Marshall | 46.13
| Mayes | 58.27
| McClain | 56.34
| McCurtain | 48.07
| McIntosh | 42.51
| Murray | 38.24
| Muskogee | 48.69
| Noble | 39.31
| Nowata | 45.72
| Okfuskee | 35.20
| Oklahoma | 85.48
| Okmulgee | 49.69
| Osage | 29.10
| Ottawa | 63.62
| Pawnee | 36.72
| Payne | 52.17
| Pittsburg | 37.55
| Pontotoc | 48.51
| Pottawatomie | 48.44
| Pushmataha | 31.38
| Roger Mills | 28.45
| Rogers | 67.96
| Seminole | 38.93
| Sequoyah | 55.24
| Stephens | 34.96
| Texas | 22.07
| Tillman | 27.69
| Tulsa | 100.27
| Wagoner | 66.96
| Washington | 46.13
| Washita | 33.07
| Woods | 29.93
| Woodward | 30.55
Oregon | Baker | 19.91
| Benton | 116.51
| Clackamas | 264.85
| Clatsop | 108.95
| Columbia | 107.87
| Coos | 63.33
| Crook | 17.85
| Curry | 66.92
| Deschutes | 137.76
| Douglas | 60.56
| Gilliam | 9.77
| Grant | 15.81
| Harney | 10.75
| Hood River | 373.13
| Jackson | 91.96
| Jefferson | 12.59
| Josephine | 197.42
| Klamath | 28.97
| Lake | 19.98
| Lane | 134.01
| Lincoln | 94.17
| Linn | 95.05
| Malheur | 23.05
| Marion | 155.98
| Morrow | 18.68
| Multnomah | 234.24
| Polk | 120.61
| Sherman | 11.71
| Tillamook | 122.91
| Umatilla | 32.06
| Union | 30.39
| Wallowa | 24.79
| Wasco | 14.78
| Washington | 184.04
| Wheeler | 12.72
| Yamhill | 179.94
Pennsylvania | Adams | 171.11
| Allegheny | 144.65
| Armstrong | 78.93
| Beaver | 132.02
| Bedford | 101.38
| Berks | 243.22
| Blair | 125.33
| Bradford | 101.69
| Bucks | 337.15
| Butler | 130.34
| Cambria | 89.98
| Cameron | 53.67
| Carbon | 179.76
| Centre | 148.70
| Chester | 358.84
| Clarion | 81.03
| Clearfield | 72.72
| Clinton | 148.63
| Columbia | 128.83
| Crawford | 77.49
| Cumberland | 213.94
| Dauphin | 124.68
| Delaware | 378.81
| Elk | 93.90
| Erie | 94.38
| Fayette | 91.18
| Forest | 66.10
| Franklin | 182.47
| Fulton | 99.90
| Greene | 82.57
| Huntingdon | 105.22
| Indiana | 76.84
| Jefferson | 71.28
| Juniata | 138.34
| Lackawanna | 134.36
| Lancaster | 343.98
| Lawrence | 112.70
| Lebanon | 289.99
| Lehigh | 228.67
| Luzerne | 123.24
| Lycoming | 117.10
| McKean | 56.63
| Mercer | 93.90
| Mifflin | 134.74
| Monroe | 215.80
| Montgomery | 385.78
| Montour | 150.52
| Northampton | 225.61
| Northumberland | 134.46
| Perry | 138.68
| Philadelphia | 1,244.74
| Pike | 50.38
| Potter | 75.47
| Schuylkill | 176.71
| Snyder | 159.79
| Somerset | 72.24
| Sullivan | 84.66
| Susquehanna | 111.98
| Tioga | 94.38
| Union | 148.02
| Venango | 84.90
| Warren | 64.42
| Washington | 125.13
| Wayne | 102.41
| Westmoreland | 130.62
| Wyoming | 110.13
| York | 207.22
Puerto Rico | All Areas | 177.77
Rhode Island | Bristol | 605.22
| Kent | 204.20
| Newport | 526.63
| Providence | 343.71
| Washington | 280.98
South Carolina | Abbeville | 75.33
| Aiken | 103.15
| Allendale | 60.02
| Anderson | 118.56
| Bamberg | 60.13
| Barnwell | 66.17
| Beaufort | 91.82
| Berkeley | 96.84
| Calhoun | 75.84
| Charleston | 169.22
| Cherokee | 82.32
| Chester | 76.55
| Chesterfield | 74.34
| Clarendon | 49.95
| Colleton | 73.22
| Darlington | 66.91
| Dillon | 70.65
| Dorchester | 93.38
| Edgefield | 80.25
| Fairfield | 75.77
| Florence | 60.13
| Georgetown | 63.89
| Greenville | 176.38
| Greenwood | 65.35
| Hampton | 65.08
| Horry | 81.88
| Jasper | 73.77
| Kershaw | 83.00
| Lancaster | 106.85
| Laurens | 91.99
| Lee | 61.48
| Lexington | 108.14
| Marion | 63.18
| Marlboro | 58.87
| McCormick | 47.98
| Newberry | 73.60
| Oconee | 144.07
| Orangeburg | 68.61
| Pickens | 151.33
| Richland | 95.31
| Saluda | 77.43
| Spartanburg | 134.74
| Sumter | 62.98
| Union | 59.79
| Williamsburg | 56.63
| York | 136.57
South Dakota | Aurora | 65.71
| Beadle | 79.69
| Bennett | 15.72
| Bon Homme | 81.26
| Brookings | 118.58
| Brown | 81.19
| Brule | 63.38
| Buffalo | 32.91
| Butte | 17.22
| Campbell | 35.48
| Charles Mix | 65.47
| Clark | 70.51
| Clay | 123.07
| Codington | 74.68
| Corson | 18.19
| Custer | 31.90
| Davison | 94.41
| Day | 53.19
| Deuel | 82.13
| Dewey | 15.93
| Douglas | 79.41
| Edmunds | 61.01
| Fall River | 14.33
| Faulk | 54.13
| Grant | 83.27
| Gregory | 33.98
| Haakon | 16.73
| Hamlin | 99.42
| Hand | 53.08
| Hanson | 104.22
| Harding | 11.69
| Hughes | 54.61
| Hutchinson | 91.48
| Hyde | 38.68
| Jackson | 22.12
| Jerauld | 54.75
| Jones | 20.24
| Kingsbury | 92.35
| Lake | 113.57
| Lawrence | 39.48
| Lincoln | 151.38
| Lyman | 27.90
| Marshall | 62.20
| McCook | 118.20
| McPherson | 42.58
| Meade | 18.75
| Mellette | 19.90
| Miner | 89.40
| Minnehaha | 143.21
| Moody | 141.75
| Pennington | 19.44
| Perkins | 14.96
| Potter | 55.62
| Roberts | 70.44
| Sanborn | 66.16
| Shannon | 12.80
| Spink | 82.82
| Stanley | 25.53
| Sully | 43.41
| Todd | 14.23
| Tripp | 31.10
| Turner | 120.11
| Union | 139.49
| Walworth | 41.22
| Yankton | 115.28
| Ziebach | 13.22
Tennessee | Anderson | 162.76
| Bedford | 106.20
| Benton | 62.29
| Bledsoe | 97.44
| Blount | 189.30
| Bradley | 151.15
| Campbell | 103.84
| Cannon | 86.09
| Carroll | 68.09
| Carter | 145.56
| Cheatham | 118.67
| Chester | 53.57
| Claiborne | 85.22
| Clay | 77.23
| Cocke | 101.93
| Coffee | 98.38
| Crockett | 78.82
| Cumberland | 105.82
| Davidson | 172.90
| Decatur | 59.75
| DeKalb | 89.18
| Dickson | 92.51
| Dyer | 69.69
| Fayette | 87.30
| Fentress | 89.14
| Franklin | 108.32
| Gibson | 85.88
| Giles | 81.64
| Grainger | 105.68
| Greene | 112.63
| Grundy | 79.59
| Hamblen | 130.13
| Hamilton | 157.13
| Hancock | 63.85
| Hardeman | 70.97
| Hardin | 70.35
| Hawkins | 97.90
| Haywood | 100.26
| Henderson | 61.35
| Henry | 77.23
| Hickman | 66.53
| Houston | 63.05
| Humphreys | 79.03
| Jackson | 80.42
| Jefferson | 150.08
| Johnson | 132.39
| Knox | 213.16
| Lake | 91.47
| Lauderdale | 86.92
| Lawrence | 73.61
| Lewis | 72.33
| Lincoln | 93.69
| Loudon | 150.70
| Macon | 95.15
| Madison | 70.04
| Marion | 81.78
| Marshall | 83.86
| Maury | 101.41
| McMinn | 113.88
| McNairy | 59.96
| Meigs | 97.83
| Monroe | 125.27
| Montgomery | 119.78
| Moore | 98.04
| Morgan | 95.26
| Obion | 88.55
| Overton | 90.32
| Perry | 55.06
| Pickett | 80.74
| Polk | 124.23
| Putnam | 120.30
| Rhea | 97.24
| Roane | 141.32
| Robertson | 135.31
| Rutherford | 135.55
| Scott | 78.48
| Sequatchie | 89.94
| Sevier | 164.70
| Shelby | 127.46
| Smith | 73.86
| Stewart | 73.06
| Sullivan | 153.58
| Sumner | 135.17
| Tipton | 82.47
| Trousdale | 107.10
| Unicoi | 153.17
| Union | 80.25
| Van Buren | 103.42
| Warren | 99.18
| Washington | 178.35
| Wayne | 55.97
| Weakley | 82.72
| White | 104.67
| Williamson | 205.00
| Wilson | 123.19
Texas | Anderson | 64.80
| Andrews | 8.68
| Angelina | 83.64
| Aransas | 45.13
| Archer | 26.06
| Armstrong | 27.85
| Atascosa | 51.89
| Austin | 108.24
| Bailey | 21.32
| Bandera | 71.36
| Bastrop | 99.00
| Baylor | 27.52
| Bee | 49.44
| Bell | 81.12
| Bexar | 113.41
| Blanco | 125.23
| Borden | 15.50
| Bosque | 64.10
| Bowie | 60.10
| Brazoria | 80.43
| Brazos | 99.90
| Brewster | 12.42
| Briscoe | 22.09
| Brooks | 28.15
| Brown | 54.20
| Burleson | 76.09
| Burnet | 88.04
| Caldwell | 87.58
| Calhoun | 46.49
| Callahan | 40.00
| Cameron | 77.81
| Camp | 68.94
| Carson | 24.37
| Cass | 54.57
| Castro | 29.07
| Chambers | 52.88
| Cherokee | 65.43
| Childress | 20.36
| Clay | 41.79
| Cochran | 17.81
| Coke | 27.68
| Coleman | 40.07
| Collin | 140.46
| Collingsworth | 22.05
| Colorado | 87.65
| Comal | 139.00
| Comanche | 63.61
| Concho | 41.92
| Cooke | 86.55
| Coryell | 64.44
| Cottle | 16.39
| Crane | 15.63
| Crockett | 16.69
| Crosby | 22.65
| Culberson | 9.07
| Dallam | 24.97
| Dallas | 122.15
| Dawson | 20.89
| Deaf Smith | 26.19
| Delta | 48.38
| Denton | 161.88
| DeWitt | 69.20
| Dickens | 19.40
| Dimmit | 41.29
| Donley | 28.54
| Duval | 34.57
| Eastland | 52.65
| Ector | 12.81
| Edwards | 33.28
| El Paso | 51.32
| Ellis | 84.27
| Erath | 85.16
| Falls | 51.59
| Fannin | 67.85
| Fayette | 112.18
| Fisher | 28.67
| Floyd | 30.33
| Foard | 19.57
| Fort Bend | 108.47
| Franklin | 75.99
| Freestone | 55.63
| Frio | 54.10
| Gaines | 25.69
| Galveston | 95.46
| Garza | 18.38
| Gillespie | 112.85
| Glasscock | 23.71
| Goliad | 54.77
| Gonzales | 85.59
| Gray | 23.51
| Grayson | 99.53
| Gregg | 102.81
| Grimes | 102.38
| Guadalupe | 95.23
| Hale | 31.39
| Hall | 20.43
| Hamilton | 65.76
| Hansford | 24.50
| Hardeman | 23.18
| Hardin | 81.92
| Harris | 141.52
| Harrison | 75.36
| Hartley | 26.62
| Haskell | 19.60
| Hays | 164.24
| Hemphill | 19.60
| Henderson | 78.91
| Hidalgo | 80.46
| Hill | 59.67
| Hockley | 27.48
| Hood | 108.21
| Hopkins | 58.64
| Houston | 59.44
| Howard | 20.10
| Hudspeth | 14.90
| Hunt | 80.96
| Hutchinson | 20.20
| Irion | 24.87
| Jack | 51.82
| Jackson | 55.99
| Jasper | 83.41
| Jeff Davis | 12.71
| Jefferson | 43.91
| Jim Hogg | 35.36
| Jim Wells | 48.41
| Johnson | 108.01
| Jones | 29.47
| Karnes | 68.81
| Kaufman | 90.03
| Kendall | 126.82
| Kenedy | 17.42
| Kent | 22.62
| Kerr | 69.77
| Kimble | 46.95
| King | 16.09
| Kinney | 31.85
| Kleberg | 49.90
| Knox | 20.46
| La Salle | 51.72
| Lamar | 57.28
| Lamb | 30.66
| Lampasas | 66.52
| Lavaca | 77.65
| Lee | 84.73
| Leon | 66.39
| Liberty | 66.36
| Limestone | 50.10
| Lipscomb | 21.39
| Live Oak | 50.76
| Llano | 71.65
| Loving | 5.26
| Lubbock | 49.07
| Lynn | 23.84
| Madison | 74.14
| Marion | 58.91
| Martin | 27.35
| Mason | 62.71
| Matagorda | 52.52
| Maverick | 31.22
| McCulloch | 49.07
| McLennan | 68.64
| McMullen | 37.22
| Medina | 68.81
| Menard | 38.64
| Midland | 37.95
| Milam | 94.87
| Mills | 58.87
| Mitchell | 20.89
| Montague | 66.22
| Montgomery | 156.42
| Moore | 24.87
| Morris | 55.63
| Motley | 19.54
| Nacogdoches | 66.79
| Navarro | 54.37
| Newton | 53.08
| Nolan | 29.77
| Nueces | 41.03
| Ochiltree | 26.52
| Oldham | 15.63
| Orange | 88.01
| Palo Pinto | 63.77
| Panola | 55.66
| Parker | 132.78
| Parmer | 27.55
| Pecos | 13.44
| Polk | 72.38
| Potter | 14.50
| Presidio | 12.22
| Rains | 66.82
| Randall | 26.59
| Reagan | 12.88
| Real | 39.14
| Red River | 44.04
| Reeves | 7.12
| Refugio | 24.17
| Roberts | 17.42
| Robertson | 63.41
| Rockwall | 154.60
| Runnels | 34.27
| Rusk | 57.91
| Sabine | 71.99
| San Augustine | 61.19
| San Jacinto | 75.10
| San Patricio | 42.32
| San Saba | 64.57
| Schleicher | 24.54
| Scurry | 22.52
| Shackelford | 28.94
| Shelby | 77.55
| Sherman | 28.54
| Smith | 100.30
| Somervell | 103.14
| Starr | 46.89
| Stephens | 37.05
| Sterling | 13.97
| Stonewall | 19.04
| Sutton | 25.00
| Swisher | 24.40
| Tarrant | 167.91
| Taylor | 30.00
| Terrell | 10.30
| Terry | 30.16
| Throckmorton | 31.75
| Titus | 68.21
| Tom Green | 30.20
| Travis | 101.65
| Trinity | 61.39
| Tyler | 77.45
| Upshur | 75.83
| Upton | 15.56
| Uvalde | 52.95
| Val Verde | 15.10
| Van Zandt | 84.53
| Victoria | 60.73
| Walker | 88.18
| Waller | 165.43
| Ward | 9.80
| Washington | 146.98
| Webb | 28.67
| Wharton | 67.32
| Wheeler | 21.75
| Wichita | 31.59
| Wilbarger | 26.49
| Willacy | 48.41
| Williamson | 102.91
| Wilson | 79.14
| Winkler | 9.60
| Wise | 101.06
| Wood | 75.56
| Yoakum | 21.42
| Young | 36.65
| Zapata | 30.96
| Zavala | 40.66
Utah | Beaver | 21.68
| Box Elder | 13.05
| Cache | 38.30
| Carbon | 13.21
| Daggett | 23.19
| Davis | 70.37
| Duchesne | 9.04
| Emery | 18.45
| Garfield | 24.68
| Grand | 6.28
| Iron | 20.47
| Juab | 13.02
| Kane | 15.30
| Millard | 15.25
| Morgan | 17.09
| Piute | 31.82
| Rich | 10.92
| Salt Lake | 51.35
| San Juan | 4.06
| Sanpete | 23.36
| Sevier | 32.77
| Summit | 24.76
| Tooele | 12.96
| Uintah | 6.87
| Utah | 57.86
| Wasatch | 41.43
| Washington | 39.68
| Wayne | 43.82
| Weber | 63.20
Vermont | Addison | 83.29
| Bennington | 114.28
| Caledonia | 87.09
| Chittenden | 117.60
| Essex | 50.97
| Franklin | 76.66
| Grand Isle | 104.16
| Lamoille | 99.74
| Orange | 84.76
| Orleans | 66.56
| Rutland | 74.36
| Washington | 109.80
| Windham | 109.39
| Windsor | 103.85
Virginia | Accomack | 101.16
| Albemarle | 241.69
| Alleghany | 85.77
| Amelia | 84.60
| Amherst | 100.64
| Appomattox | 78.60
| Arlington | 1,484.00
| Augusta | 172.69
| Bath | 115.00
| Bedford | 122.28
| Bland | 89.02
| Botetourt | 120.62
| Brunswick | 57.62
| Buchanan | 72.94
| Buckingham | 84.95
| Campbell | 82.39
| Caroline | 113.93
| Carroll | 94.02
| Charles City | 103.68
| Charlotte | 62.69
| Chesapeake City | 120.21
| Chesterfield | 147.09
| Clarke | 217.51
| Craig | 87.50
| Culpeper | 178.03
| Cumberland | 99.02
| Dickenson | 81.91
| Dinwiddie | 82.88
| Essex | 84.05
| Fairfax | 418.35
| Fauquier | 219.02
| Floyd | 99.99
| Fluvanna | 140.70
| Franklin | 97.82
| Frederick | 162.92
| Giles | 72.94
| Gloucester | 138.77
| Goochland | 150.64
| Grayson | 115.79
| Greene | 189.90
| Greensville | 56.00
| Halifax | 63.42
| Hanover | 153.64
| Henrico | 181.55
| Henry | 74.53
| Highland | 93.30
| Isle of Wight | 98.16
| James City | 241.97
| King and Queen | 85.26
| King George | 138.91
| King William | 103.06
| Lancaster | 126.38
| Lee | 60.79
| Loudoun | 330.61
| Louisa | 157.95
| Lunenburg | 65.69
| Madison | 174.34
| Mathews | 170.93
| Mecklenburg | 71.08
| Middlesex | 106.41
| Montgomery | 134.63
| Nelson | 126.45
| New Kent | 152.50
| Northampton | 119.21
| Northumberland | 82.84
| Nottoway | 86.12
| Orange | 186.21
| Page | 162.34
| Patrick | 92.09
| Pittsylvania | 67.07
| Powhatan | 158.13
| Prince Edward | 88.40
| Prince George | 116.00
| Prince William | 243.66
| Pulaski | 84.84
| Rappahannock | 233.03
| Richmond | 79.56
| Roanoke | 118.00
| Rockbridge | 118.59
| Rockingham | 194.73
| Russell | 59.93
| Scott | 57.31
| Shenandoah | 154.02
| Smyth | 76.98
| Southampton | 73.63
| Spotsylvania | 169.20
| Stafford | 253.04
| Suffolk | 124.80
| Surry | 98.85
| Sussex | 62.86
| Tazewell | 61.14
| Virginia Beach City | 146.78
| Warren | 197.01
| Washington | 108.65
| Westmoreland | 98.71
| Wise | 76.08
| Wythe | 93.47
| York | 137.77
Washington | Adams | 20.86
| Asotin | 14.42
| Benton | 46.38
| Chelan | 148.43
| Clallam | 211.18
| Clark | 214.38
| Columbia | 18.24
| Cowlitz | 147.29
| Douglas | 17.26
| Ferry | 7.20
| Franklin | 49.60
| Garfield | 16.05
| Grant | 58.08
| Grays Harbor | 35.62
| Island | 241.22
| Jefferson | 154.80
| King | 363.15
| Kitsap | 448.10
| Kittitas | 74.91
| Klickitat | 24.15
| Lewis | 106.64
| Lincoln | 18.85
| Mason | 140.55
| Okanogan | 22.47
| Pacific | 58.56
| Pend Oreille | 51.74
| Pierce | 240.99
| San Juan | 224.13
| Skagit | 128.52
| Skamania | 172.26
| Snohomish | 272.01
| Spokane | 48.18
| Stevens | 26.64
| Thurston | 147.22
| Wahkiakum | 79.51
| Walla Walla | 35.35
| Whatcom | 195.77
| Whitman | 23.68
| Yakima | 30.54
West Virginia | Barbour | 54.34
| Berkeley | 160.05
| Boone | 48.26
| Braxton | 45.45
| Brooke | 54.14
| Cabell | 83.32
| Calhoun | 42.29
| Clay | 52.05
| Doddridge | 52.33
| Fayette | 68.31
| Gilmer | 40.93
| Grant | 66.09
| Greenbrier | 78.88
| Hampshire | 100.11
| Hancock | 81.52
| Hardy | 78.88
| Harrison | 58.90
| Jackson | 61.36
| Jefferson | 191.04
| Kanawha | 60.18
| Lewis | 54.73
| Lincoln | 56.19
| Logan | 54.17
| Marion | 59.90
| Marshall | 61.12
| Mason | 58.76
| McDowell | 66.68
| Mercer | 61.78
| Mineral | 83.57
| Mingo | 39.40
| Monongalia | 85.90
| Monroe | 63.45
| Morgan | 124.26
| Nicholas | 70.95
| Ohio | 64.28
| Pendleton | 64.66
| Pleasants | 53.72
| Pocahontas | 61.19
| Preston | 68.59
| Putnam | 71.06
| Raleigh | 69.15
| Randolph | 50.45
| Ritchie | 44.44
| Roane | 47.71
| Summers | 61.09
| Taylor | 68.97
| Tucker | 85.03
| Tyler | 51.04
| Upshur | 64.49
| Wayne | 52.26
| Webster | 60.98
| Wetzel | 50.77
| Wirt | 45.66
| Wood | 64.84
| Wyoming | 57.61
Wisconsin | Adams | 105.88
| Ashland | 50.26
| Barron | 76.40
| Bayfield | 55.45
| Brown | 148.09
| Buffalo | 91.86
| Burnett | 67.12
| Calumet | 150.69
| Chippewa | 74.46
| Clark | 85.34
| Columbia | 137.65
| Crawford | 73.88
| Dane | 165.36
| Dodge | 146.18
| Door | 111.11
| Douglas | 47.43
| Dunn | 90.53
| Eau Claire | 81.96
| Florence | 85.03
| Fond du Lac | 136.53
| Forest | 56.20
| Grant | 113.63
| Green | 119.43
| Green Lake | 124.04
| Iowa | 108.96
| Iron | 62.99
| Jackson | 84.42
| Jefferson | 141.51
| Juneau | 84.05
| Kenosha | 137.52
| Kewaunee | 118.78
| La Crosse | 91.31
| Lafayette | 133.63
| Langlade | 75.58
| Lincoln | 67.46
| Manitowoc | 144.10
| Marathon | 79.61
| Marinette | 82.85
| Marquette | 93.60
| Menominee | 35.08
| Milwaukee | 258.21
| Monroe | 87.53
| Oconto | 89.33
| Oneida | 114.38
| Outagamie | 143.90
| Ozaukee | 153.08
| Pepin | 89.71
| Pierce | 108.03
| Polk | 77.84
| Portage | 89.88
| Price | 51.90
| Racine | 148.78
| Richland | 82.20
| Rock | 150.76
| Rusk | 55.59
| Sauk | 105.95
| Sawyer | 62.58
| Shawano | 98.07
| Sheboygan | 143.11
| St. Croix | 114.72
| Taylor | 59.75
| Trempealeau | 87.29
| Vernon | 90.12
| Vilas | 146.12
| Walworth | 167.44
| Washburn | 67.77
| Washington | 159.22
| Waukesha | 178.19
| Waupaca | 104.86
| Waushara | 94.42
| Winnebago | 114.76
| Wood | 85.92
Wyoming | Albany | 9.82
| Big Horn | 26.66
| Campbell | 10.10
| Carbon | 9.82
| Converse | 6.59
| Crook | 15.49
| Fremont | 15.18
| Goshen | 13.57
| Hot Springs | 12.19
| Johnson | 10.60
| Laramie | 12.54
| Lincoln | 31.41
| Natrona | 10.89
| Niobrara | 9.36
| Park | 24.45
| Platte | 12.54
| Sheridan | 14.38
| Sublette | 23.47
| Sweetwater | 3.53
| Teton | 55.52
| Uinta | 12.83
| Washakie | 15.49
| Weston | 8.16

[FR Doc. 2018-04835 Filed 3-9-18; 8:45 am]

BILLING CODE 6717-01-P